DEPARTMENT OF HEALTH AND HUMAN SERVICES

National Institutes of Health

National Cancer Institute; Amended Notice of Meeting

Notice is hereby given of a change in the meeting of the National Cancer Institute Special Emphasis Panel Transition to Independence SEP, March 10, 2020, 10:30 a.m. to 5:00 p.m., National Cancer Institute Shady Grove, 9609 Medical Center Drive, Room 7W602, Rockville, MD 20850 (Telephone Conference Call) which was published in the Federal Register on December 16, 2019, 84 FR 68465.

This meeting notice is amended to correct the meeting name from National Cancer Institute Special Emphasis Panel Transition to Independence SEP to National Cancer Institute Initial Review Group Transition to Independence. The meeting is closed to the public.

Dated: December 19, 2019.
Melanie J. Pantoja,
Program Analyst, Office of Federal Advisory Committee Policy.

[FR Doc. 2019-27854 Filed 12-26-19; 8:45 am]

BILLING CODE 4140-01-P